DEPARTMENT OF TRANSPORTATION

Federal Railroad Administration

[Docket No. FRA-2022-0002-N-3]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified in the ICR.

DATES: Interested persons are invited to submit comments on or before April 12, 2022.

ADDRESSES: Written comments and recommendations for the proposed ICR should be submitted on regulations.gov to the docket, Docket No. FRA-2022-0002. All comments received will be posted without change to the docket, including any personal information provided. Please refer to the assigned OMB control number in any correspondence submitted. FRA will summarize comments received in response to this notice in a subsequent notice and include them in its information collection submission to OMB for approval.

FOR FURTHER INFORMATION CONTACT: Ms. Hodan Wells, Information Collection Clearance Officer, at email: hodan.wells@dot.gov or telephone: (202) 493-0440.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summary below describes the ICR that FRA will submit for OMB clearance as the PRA requires:

Title: State Safety Participation Regulations and Reporting of Remedial Actions.

OMB Control Number: 2130-0509.

Abstract: The collection of information is set forth under 49 CFR part 212, and requires qualified State inspectors to provide various reports to FRA for monitoring and enforcement purposes concerning State investigative, inspection, and surveillance activities regarding railroad compliance with Federal railroad safety laws and regulations. Additionally, under 49 CFR part 209, subpart E, railroads are required to report to FRA actions taken to remedy certain alleged violations of law.

Type of Request: Extension without change (with changes in estimates) of a currently approved collection.

Affected Public: Businesses.

Form(s): FRA F 6180.33/61/67/96/96A/109/110/111/112/144.

Respondent Universe: States and railroads.

Frequency of Submission: On occasion.

Reporting Burden:

Section ¹ | Respondent universe | Total annual responses | Average time per response | Total annual burden hours | Total cost equivalent
|  | (A) | (B) | (C) = A * B | (D) = C * wage ²
49 U.S.C. 20105—Railroad Safety State Participation Agreement—Annual updates or amendments including workplans, training plans and schedules to existing agreements | 32 States | 32 updates | 1 hour | 32 | $2,615
—Inspector travel planning and reimbursement | 32 States | 600 vouchers | 1.5 hours | 900 | 73,539
212.107—Certification—State to file annual certification in the event that FRA and the State agency do not agree on terms for the participation under § 212.105 | FRA anticipates zero submissions.
212.109—Joint planning of inspections—Annual work plan for the conduct of investigative and surveillance activities by the State agency | The burden associated with this requirement is covered above under 49 U.S.C. 20105.
212.113—Program termination—30-day notice provided by State agency of its intent to terminate its participation | FRA anticipates zero submissions.
—Inspection Report (Form FRA F 6180.96)—All disciplines submitted by State inspectors | 32 States | 19,400 forms | 15 minutes | 4,850 | 396,294
—Violation Report—Motive, Power, and Equipment Regulations (Form FRA F 6180.109) | 19 States | 360 reports | 4 hours | 1,440 | 117,662
—Violation Report—Operating Practices Regulations (Form FRA F 6180.67) | 19 States | 180 reports | 4 hours | 720 | 58,831
—Violation Report—Hazardous Materials Regulations (Form FRA F 6180.110) | 17 States | 420 reports | 4 hours | 1,680 | 137,273
—Violation Report—Hours of Service Law (F 6180.33) | 19 States | 2 reports | 4 hours | 8 | 654
—Violation Report—Accident/Incident Reporting Rules (Form FRA F 6180.61) | 19 States | 2 reports | 4 hours | 8 | 654
—Violation Report—Track Safety Regulations (Form FRA F 6180.111) | 26 States | 110 reports | 4 hours | 440 | 35,952
—Violation Report—Signal and Train Control Regulations (Form FRA F 6180.112) | 14 States | 80 reports | 4 hours | 320 | 26,147
209.405(a)—Reporting of remedial actions—Completion of Form FRA F 6180.96 including selection of railroad remedial action code | 754 railroads | 2,400 reports | 30 minutes | 1,200 hours | 92,928
—(b) Violation report challenge by the railroads—Remedial action reports | 754 railroads | 240 challenges | 45 minutes | 180 | 13,939
209.407—Delayed reports | 754 railroads | 240 reports | 45 minutes | 180 | 13,939
Total | 32 States and 754 railroads | 24,066 responses | N/A | 11,958 | 970,427
¹ The current inventory exhibits a total burden of 9,346 hours while the total burden of this notice is 11,958 hours.
² For State respondents, the dollar equivalent cost is derived from the Bureau of Labor Statistics data for management occupations, NAICS 99920—State Government, excluding schools and hospitals, for State government employees. To calculate the mean hourly wage of $46.69 for this category of workers, FRA included a 75-percent charge for overhead costs. The calculation is $46.69 per hour * 1.75 = $81.71. The Web address for this data is: https://www.bls.gov/oes/current/naics4_999200.htm#11-0000. Additionally, for railroad respondents, the dollar equivalent cost is derived from the Surface Transportation Board's 2020 Full Year Wage A&B data series for railroad workers. The wage rate of $77.44 per hour includes a 75-percent overhead charge.

Total Estimated Annual Responses: 24,066.

Total Estimated Annual Burden: 11,958 hours.

Total Estimated Annual Burden Hour Dollar Cost Equivalent: $970,427.

Under 44 U.S.C. 3507(a) and 5 CFR 1320.5(b) and 1320.8(b)(3)(vi), FRA informs all interested parties that a respondent is not required to respond to, conduct, or sponsor a collection of information that does not display a currently valid OMB control number.

Authority: 44 U.S.C. 3501-3520.

Brett A. Jortland,
Deputy Chief Counsel.

[FR Doc. 2022-02937 Filed 2-10-22; 8:45 am]

BILLING CODE 4910-06-P